ENVIRONMENTAL PROTECTION AGENCY

40 CFR Part 180

[EPA-HQ-OPP-2015-0032; FRL-9956-04]

Receipt of Several Pesticide Petitions Filed for Residues of Pesticide Chemicals in or on Various Commodities

AGENCY: Environmental Protection Agency (EPA).

ACTION: Notice of filing of petitions and request for comment.

SUMMARY: This document announces EPA's receipt of several initial filings of pesticide petitions requesting the establishment or modification of regulations for residues of pesticide chemicals in or on various commodities.

DATES: Comments must be received on or before January 19, 2017.

ADDRESSES: Submit your comments, identified by the Docket Identification (ID) Number and the Pesticide Petition Number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Robert McNally, Biopesticides and Pollution Prevention Division (7511P), main telephone number: (703) 305-7090, email address: BPPDFRNotices@epa.gov; or Michael Goodis, Registration Division (7505P), main telephone number: (703) 305-7090, email address: RDFRNotices@epa.gov. The mailing address for each contact person is: Office of Pesticide Programs, Environmental Protection Agency, 1200 Pennsylvania Ave. NW., Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, EPA seeks information on any groups or segments of the population who, as a result of their location, cultural practices, or other factors, may have atypical or disproportionately high and adverse human health impacts or environmental effects from exposure to the pesticides discussed in this document, compared to the general population.

II. What action is EPA taking?

EPA is announcing its receipt of several pesticide petitions filed under section 408 of the Federal Food, Drug, and Cosmetic Act (FFDCA), 21 U.S.C. 346a, requesting the establishment or modification of regulations in 40 CFR part 180 for residues of pesticide chemicals in or on various food commodities. EPA is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

New Tolerances

1. PP 5E8440. (EPA-HQ-OPP-2016-0392). Dow AgroSciences LLC, 9330 Zionsville Rd., Indianapolis, IN 46268, requests to establish tolerances in 40 CFR part 180 without a U.S. registration for residues of the fungicide fenpicoxomid (XDE 777) in or on the raw agricultural commodities banana at 0.1 parts per million (ppm), rye at 0.7 ppm, and wheat at 0.7 ppm; and residues of fenpicoxomid plus its metabolite X12326349, expressed as fenpicoxomid equivalents, in or on meat and fat from cattle, goats, and sheep at 0.01 ppm; and meat byproducts of cattle, goats, and sheep at 0.02 ppm. The Method S12-01537, “XDE 777 and its Metabolite X642188—Validation of the Method for the Determination of XDE 777 and its Metabolite X642188 in Crops by LC MS/MS,” was used for the analysis of XDE 777 and its metabolite X642188 in the plant materials. Samples were analyzed by liquid chromatography using a Phenomenex Luna C18 column coupled with positive-ion electrospray tandem mass spectrometry (LC/MS/MS), monitoring two MS/MS transitions characteristic of each analyte. Contact: RD.

2. PP 5F8403. (EPA-HQ-OPP-2016-0560). Dow AgroSciences LLC, 9330 Zionsville Rd., Indianapolis, IN 46268, requests to establish tolerances in 40 CFR part 180 for residues of the herbicide florpyrauxifen-benzyl (2-Pyridinecarboxylic acid, 4-amino-3-chloro-6-(4-chloro-2-fluoro-3-methoxyphenyl)-5-fluoro-, phenylmethyl ester) and florpyrauxifen (metabolite; 2-Pyridinecarboxylic acid, 4-amino-3-chloro-6-(4-chloro-2-fluoro-3-methoxyphenyl)-5-fluoro-) in or on the raw agricultural commodities rice, grain (dehulled) at 0.01 ppm; rice, grain at 0.2 ppm; fish, freshwater at 2 ppm; shellfish, crustacean at 0.5 ppm; and shellfish, mollusk at 9 ppm. The liquid chromatography with tandem mass spectrometry analytical method 130794.1 is used to validate rice grain and straw matrices. A separate liquid chromatography with tandem mass spectrometry analytical method 130794.02 is used to validate matrices of rice processed fractions. Contact: RD.

3. PP 5F8417. (EPA-HQ-OPP-2015-0787). K-I Chemical USA, Inc., 11 Martine Ave., Suite 970, White Plains, NY 10606, requests to establish tolerances in 40 CFR 180.659 for residues of the herbicide pyroxasulfone (3-[(5-(difluoromethoxy)-1-methyl-3-(trifluoromethyl) pyrazole-4-ylmethylsulfonyl]-4,5-dihydro-5,5-dimethyl-1,2-oxazole) and its metabolites in or on dried shelled peas and beans (crop subgroup 6C) at 0.15 ppm, pea hay at 0.40 ppm, pea vines at 0.20 ppm, cowpea hay at 0.07 ppm, cowpea forage at 3.0 ppm flax at 0.07 ppm, peanut at 0.20 ppm, peanut hay at 3.0 ppm, peanut meal at 0.40 ppm, and vegetable, foliage of legume, except soybean, subgroup 07A at 3.0 ppm. The LC/MS/MS has been proposed to enforce the tolerance expression for pyroxasulfone. Contact: RD.

4. PP 6E8505. (EPA-HQ-OPP-2016-0049). Interregional Research Project No. 4 (IR-4), Rutgers, The State University of New Jersey, 500 College Rd. East, Suite 201W, Princeton, NJ 08540, requests to establish tolerances in 40 CFR 180.685 for residues of the fungicide oxathiapiprolin, 1-[4-[4-[5-(2,6-difluorophenyl)-4,5-dihydro-3-isoxazolyl]-2-thiazolyl]-1-piperidinyl]-2-[5-methyl-3-(trifluoromethyl)-1H-pyrazol-1-yl]-ethanone, in or on cacao bean, bean at 0.10 ppm; cacao bean, chocolate at 0.15 ppm; cacao bean, cocoa powder at 0.15 ppm; and cacao bean, roasted bean at 0.15 ppm. Adequate analytical methodology, high-pressure liquid chromatography with tandem mass spectrometry (MS/MS) detection, is available for tolerance enforcement purposes. Contact: RD.

5. PP 6E8511. (EPA-HQ-OPP-2016-0587). IR-4, Rutgers, The State University of New Jersey, 500 College Rd. East, Suite 201W, Princeton, NJ 08540, requests to establish a tolerance in 40 CFR 180.444 for residues of sulfur dioxide, including its metabolites and degradates, in or on fig at 25 ppm. An analytical enforcement method, the Monier-Williams Procedure for Sulfites (21 CFR part 101 Appendix A), is available for enforcement of tolerances for sulfites in food. Contact: RD.

6. PP 6F8507. (EPA-HQ-OPP-2016-0573). Isagro S.p.A. d/b/a Isagro USA, Inc., 430 Davis Dr., Suite 240, Morrisville, NC 27560, requests to establish tolerances in 40 CFR 180.557 for residues of the fungicide tetraconazole in or on barley at 0.3 ppm; crop group 16, forage, fodder, and straw of cereal grains group (except corn) at 8.0 ppm; dried shelled pea and bean (except soybean) subgroup 6C, hay at 8.0 ppm; dried shelled pea and bean (except soybean) subgroup 6C, seed at 0.15 ppm; dried shelled pea and bean (except soybean) subgroup 6C, vine at 2.0 ppm; rapeseed crop subgroup 20A at 0.9 ppm; and wheat at 0.1 ppm. The adequate enforcement methodology (capillary gas chromatography with electron capture detector (GC/ECD)), as well as a QuEChERS multi-residue method (LC/MS-MS detection), is used to measure and evaluate the chemical tetraconazole. Contact: RD.

Amended Tolerance

1. PP 4F8258. (EPA-HQ-OPP-2014-0357). DuPont Crop Protection, P.O. Box 30, Newark, DE 19714-0030, requests to amend the tolerance in 40 CFR 180.672 for residues of the insecticide cyantraniliprole in or on vegetable, cucurbit (group 9) at 0.70 ppm. Adequate analytical methodology, high-pressure liquid chromatography with tandem mass spectrometry (MS/MS) detection, is available for tolerance enforcement purposes. Contact: RD.

2. PP 6F8476. (EPA-HQ-OPP-2016-0360). Albaugh, LLC, P.O. Box 2127, Valdosta, GA 31604, requests to amend the tolerances in 40 CFR 180.441(a)(1) for the residues of the herbicide quizalofop ethyl, including its metabolites and degradates, in or on wheat, bran at 0.40 ppm; wheat, forage at 2.0 ppm; wheat, germ at 0.40 ppm; wheat, hay at 2.0 ppm; wheat, milled byproducts at 0.40 ppm; and wheat, straw at 0.80 ppm. The modified Morse Method-147 is used to measure and evaluate the chemical quizalofop-P-ethyl and quizalofop-P acid, convertible to 6-chloro-2-methoxyquinoxaline (MeCHQ). Contact: RD.

New Tolerance Exemptions

1. PP IN-10970. (EPA-HQ-OPP-2016-0606). AgroFresh Inc., 400 Arcola Rd., P.O. Box 7000, Collegeville, PA 19426, requests to establish an exemption from the requirement of a tolerance for residues of polyglycerol polyricinoleic acid (CAS Reg. No. 29894-35-7) with a minimum number average molecular weight (in amu) of 2,000 when used as an inert ingredient in pesticide formulations under 40 CFR 180.960. The petitioner believes no analytical method is needed because it is not required for an exemption from the requirement of a tolerance. Contact: RD.

2. PP IN-10984. (EPA-HQ-OPP-2016-0617). Spring Trading Company, on behalf of Ethox Chemicals, LLC, 1801 Perimeter Rd., Greenville, SC 29605, requests to establish an exemption from the requirement of a tolerance for residues of octadecanoic acid, 12-hydroxy-, homopolymer, ester with α, α′,α″-1,2,3-propanetriyltris[v-hydroxypoly(oxy-1,2-ethanediyl)] (CAS Reg. No. 1939051-18-9) with a minimum number average molecular weight (in amu) of 5,000 when used as an inert ingredient in pesticide formulations under 40 CFR 180.960. The petitioner believes no analytical method is needed because it is not required for an exemption from the requirement of a tolerance. Contact: RD.

3. PP 5F8410. (EPA-HQ-OPP-2016-0284). AFS009 Plant Protection, Inc., 104 T.W. Alexander Dr., Building 18, Research Triangle Park, NC 27709, requests to establish an exemption from the requirement of a tolerance in 40 CFR part 180 for residues of the fungicide Pseudomonas chlororaphis strain AFS009 in or on all food commodities. The petitioner believes no analytical method is needed because it is expected that, when used as proposed, Pseudomonas chlororaphis strain AFS009, would not result in residues that are of toxicological concern. Note: In the Federal Register of June 22, 2016 (81 FR 40594) (FRL-9947-32), EPA announced the filing of this petition to establish an exemption from the requirement of a tolerance for residues of Pseudomonas chlororaphis subsp. aurantiaca strain AFS009 in or on all food commodities. Since that time, the petitioner provided additional data on the identity of the active ingredient to EPA. After reviewing these data, EPA now considers the correct identity of the active ingredient to be Pseudomonas chlororaphis strain AFS009 and not Pseudomonas chlororaphis subsp. aurantiaca strain AFS009. In order to give the public an opportunity to comment on this new information, EPA is republishing its receipt of this tolerance exemption petition filing with an updated and accurate description. Contact: BPPD.

4. PP 6F8485. (EPA-HQ-OPP-2016-0608). BASF Corporation, 26 Davis Dr., Research Triangle Park, NC 27709, requests to establish an exemption from the requirement of a tolerance in 40 CFR part 180 for residues of the insecticide Beauveria bassiana strain PPRI 5339 in or on all food commodities. The petitioner believes no analytical method is needed because it is expected that, when used as proposed, Beauveria bassiana strain PPRI 5339, would not result in residues that are of toxicological concern. Contact: BPPD.

Amended Tolerance Exemption

1. PP 6F8481. (EPA-HQ-OPP-2016-0578). Verdesian Life Sciences U.S., LLC, 1001 Winstead Dr., Suite 480, Cary, NC 27513, requests to amend an exemption from the requirement of a tolerance in 40 CFR 180.1210 for residues of the systemic fungicide/systemic acquired resistance (SAR) inducer calcium salts of phosphorous acid in or on all food commodities when used as an agricultural fungicide and in or on potatoes when applied as a post-harvest treatment at 35,600 ppm or less phosphorous acid. The two analytical methods available to EPA for the detection and measurement of the pesticide residues are the modified AOAC Method 958.01 and the modified AOAC Method 965.09. Contact: BPPD.

Authority: 21 U.S.C. 346a.

Dated: December 9, 2016.
Robert McNally,
Director, Biopesticides and Pollution Prevention Division, Office of Pesticide Programs.

[FR Doc. 2016-30647 Filed 12-19-16; 8:45 am]

BILLING CODE 6560-50-P